DEPARTMENT OF COMMERCE

National Oceanic and Atmospheric Administration

Interagency Working Group on the Harmful Algal Bloom and Hypoxia Research and Control Amendments Act Detailed Summary of the Great Lakes Plan on Harmful Algal Blooms (HABs) and Hypoxia; Correction

AGENCY: National Ocean Service, National Oceanic and Atmospheric Administration. (NOAA), Department of Commerce.

ACTION: Notice; Correction.

SUMMARY: The National Oceanic and Atmospheric Administration published a document in the Federal Register of June 3, 2016, entitled Interagency Working Group on the Harmful Algal Bloom and Hypoxia Research and Control Amendments Act. The information concerning the submission date has been updated.

Other Information: The updated information for when stakeholders are invited to provide input related to concerns and successes pertaining to HABs and hypoxia in the Great Lakes region follows:

Stakeholders are invited to submit questions and provide input related to concerns and successes pertaining to HABs and hypoxia in the Great Lakes region. The IWG-HABHRCA continues to seek general and technical feedback on topics including:

• Regional, Great Lakes-specific priorities for:

○ Ecological, economic, and social research on the causes and impacts of HABs and hypoxia;

○ Approaches to improving monitoring and early warnings, scientific understanding, prediction and modeling, and socioeconomics of these events; and

○ Mitigating the causes and impacts of HABs and hypoxia.

• Communication and information dissemination methods that state, tribal, local, and international governments and organizations may undertake to educate and inform the public concerning HABs and hypoxia in the Great Lakes; and

• Perceived needs for handling Great Lakes HAB and hypoxia events, as well as an action strategy for managing future situations.

Inquiries and comments may be submitted via email (IWG-HABHRCA@noaa.gov) or via U.S. mail to Caitlin Gould at NOAA, National Centers for Coastal Ocean Science, SSMC-4, #8237, 1305 East-West Highway, Silver Spring, MD 20910. Technical feedback in the form of brief annotated bibliographic entries would be welcome. The Interagency Working Group will gladly accept public input at any time; however, only those that are received on or before August 19, 2016, may be considered when the Interagency Working Group finalizes the plan.

FOR FURTHER INFORMATION CONTACT: Caitlin Gould (Caitlin.gould@noaa.gov, 240-533-0290) or Stacey DeGrasse (Stacey.Degrasse@fda.hhs.gov, 240-402-1470).

SUPPLEMENTARY INFORMATION:

Correction

The National Oceanic and Atmospheric Administration published a document in the Federal Register of June 3, 2016, entitled Interagency Working Group on the Harmful Algal Bloom and Hypoxia Research and Control Amendments Act. The information concerning the webinar dates and WebEx information have been updated.

Dated: June 15, 2016.
Mary C. Erickson,
Director, National Centers for Coastal Ocean Science, National Ocean Service, National Oceanic and Atmospheric Administration.

[FR Doc. 2016-15364 Filed 6-28-16; 8:45 am]

BILLING CODE 3510-JE-P